DEPARTMENT OF COMMERCE

Economic Development Administration

Notice of Petitions by Firms for Determination of Eligibility To Apply for Trade Adjustment Assistance

AGENCY: Economic Development Administration, Department of Commerce

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by Eda for Certification of Eligibility to Apply for Trade Adjustment
[3/18/09 through 4/30/09]
Firm | Address | Date accepted for filing | Products
Boston Gem & Findings, Inc | 333 Washington Street Boston MA 2108 | 4/17/2009 | 14 karat and 18 karat classically styled jewelry featuring their branded manufactured “Bella Luna Moonstone.” The jewelry line consists of earrings, rings, and necklaces.
Custom Machining, Inc | 1204 Hale Road Shelbyville IN 46176 | 3/27/2009 | Guidance rails and structural members for elevators and escalators made by forming and machining steel stock.
L&D Industries, Inc d.b.a. Royal Machine Co. | 1214 S.E. Broadway Drive Lee's Summit MO 64081 | 4/20/2009 | Metal parts for use in I.V. pumps and navigation systems.
Plasticoid Manufacturing, Inc | 32 North Road, P.O. Box East Windsor CT 06070 | 4/17/2009 | Drafting, graphic arts and computer-aided products, rulers, straightedges, carrying and storage products.
R.P. Wakefield Company, Inc | 600 W. Maple St. Waterloo IN 46793 | 4/9/2009 | Wood products for moldings, doors, mantels, panels, casings, frames, etc.
Saloom Furniture Co., Inc | 256 Murdock Avenue WIncendon MA 01475 | 3/20/2009 | Dining tables, chairs, buffets and China cabinets in a broad spectrum of styles. Also provides custom furniture finishing and upholstery to their products.
Sennco Solutions, Inc | 14407 Coli Plus Drive, Plainfield IL 60544 | 4/17/2009 | Plastic display security devices.
Tedd Wood, Inc | Johnstown Road, P.O. Box Thompsontown NJ 17094 | 3/23/2009 | Wooden cabinets with acrylic finishes and melamine interiors.
Timberlane, Inc | 150 Domorah Drive Montgomeryville PA 18936 | 3/24/2009 | Wooden and synthetic shutters.
Tri-Century Corporation | 385 S. 31 Street Colorado CO 80904 | 3/18/2009 | Machinery, parts and accessories for refilling ink jet cartridges are designed, packaged, and sold to customers.
United Scientific, Inc | 15 Yorkton Court Little Canada MN 55117 | 4/17/2009 | Turned and milled metal parts.
Aunt Sally's Praline Shops, Inc | 2831 Chartres Street New Orleans LA 70117 | 4/17/2009 | The entire product line of hard and novelty candy for retail sale.
The Display Center, Inc | 929 Warren Barrett Drive Hannibal MO 63401 | 4/23/2009 | Point-of-purchase (POP) illuminated display signs.
Contract Specialties, Inc d.b.a. Sunburst | 234 Hartford Avenue Providence RI 02909 | 4/9/2009 | Bracelets, cuff links, anklets, bangle, earrings, posts, drops, clips, pendants, bolos, drop pendants, cords, rings, hair accessories, pins, badges, magnets, spoons, bells, letter openers, thimbles, money clips, key rings, belts, buckles and charms.
Algonquin Industries, Inc | 139 Farm Street Bellingham MA 02109 | 4/22/2009 | Precision machining and production machining business, with extensive capabilities in CNC milling, turning, grinding, drilling, programming, cleaning and inspection.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: May 4, 2009.
William P. Kittredge,
Program Officer for TAA.

[FR Doc. E9-10723 Filed 5-7-09; 8:45 am]

BILLING CODE 3510-24-P